DEPARTMENT OF HEALTH AND HUMAN SERVICES

Agency for Healthcare Research and Quality

Agency Information Collection Activities: Proposed Collection; Comment Request

AGENCY: Agency for Healthcare Research and Quality, HHS.

ACTION: Notice

SUMMARY: This notice announces the intention of the Agency for Healthcare Research and Quality (AHRQ) to request that the Office of Management and Budget (OMB) approve the proposed information collection project “AHRQ Research Reporting System (ARRS).” This proposed information collection was previously published in the Federal Register on March 29th, 2023 and allowed 60 days for public comment. AHRQ received no substantive comments from members of the public. The purpose of this notice is to allow an additional 30 days for public comment.

DATES: Comments on this notice must be received by July 3, 2023.

ADDRESSES: Written comments and recommendations for the proposed information collection should be sent within 30 days of publication of this notice to www.reginfo.gov/public/do/PRAMain. Find this particular information collection by selecting “Currently under 30-day Review—Open for Public Comments” or by using the search function.

Copies of the proposed collection plans, data collection instruments, and specific details on the estimated burden can be obtained from the AHRQ Reports Clearance Officer.

FOR FURTHER INFORMATION CONTACT: Doris Lefkowitz, AHRQ Reports Clearance Officer, (301) 427-1477, or by email at doris.lefkowitz@AHRQ.hhs.gov.

SUPPLEMENTARY INFORMATION:

Proposed Project

AHRQ Research Reporting System (ARRS)

AHRQ has developed a systematic method for its grantees to report project progress and important preliminary findings for grants funded by the Agency. This system, the AHRQ Research Reporting System (ARRS), previously known as the Grants Reporting System (GRS), was last approved by OMB on August 31, 2020. The system addressed the shortfalls in the previous reporting process and established a consistent and comprehensive reporting solution for grants in AHRQ. The ARRS provides a centralized repository of grants research progress and additional information that can be used to support initiatives within the Agency. This includes future research planning and support for administrative activities such as performance monitoring, budgeting, and knowledge transfer, as well as for strategic planning.

This Project has the following goals:

(1) To promote the transfer of critical information more frequently and efficiently and enhance the Agency's ability to support research designed to improve the outcomes and quality of health care, reduce its costs, and broaden access to effective services

(2) To increase the efficiency of the Agency in responding to ad-hoc information requests

(3) To support Executive Branch requirements for increased transparency and public reporting

(4) To establish a consistent approach throughout the Agency for information collection regarding grant progress and a systematic basis for oversight and for facilitating potential collaborations among grantees

(5) To decrease the inconvenience and burden on grantees of unanticipated ad-hoc requests for information by the Agency in response to particular (one-time) internal and external requests for information

This project is being conducted by AHRQ through its contractor, Science Applications International Corporation, Inc, pursuant to AHRQ's statutory authority to conduct and support research on health care and on systems for the delivery of such care, including activities with respect to the quality, effectiveness, efficiency, appropriateness, and value of healthcare services and with respect to quality measurement and improvement. 42 U.S.C 299a(a)(1) and (2).

Method of Collection

Grantees use the ARRS system to report project progress and important preliminary findings for grants funded by the Agency. Grantees submit progress reports on a monthly or quarterly basis, which are reviewed by AHRQ personnel. All users access the ARRS system through a secure online interface which requires a user id and password entered through the ARRS Login screen. When status reports are due AHRQ notifies Principal Investigators (PI) via email.

The ARRS is an automated user-friendly resource that is utilized by AHRQ staff for preparing, distributing, and reviewing reporting requests to grantees for the purpose of information sharing. AHRQ personnel are able to systematically search the information collected and stored in the ARRS database. Personnel will also use the information to address internal and/or external requests for information regarding grant progress, preliminary findings, and other requests, such as Freedom of Information Act requests, and producing responses related to federally mandated programs and regulations.

Estimated Annual Respondent Burden

Exhibit 1 shows the estimated annualized burden hours for the respondents. It will take grantees an estimated 15 minutes to enter the necessary data into the ARRS System. Frequency of reporting varies from monthly to once a year. The total number of responses submitted for the past year is considered for this estimation. Based on that, the total annualized burden hours are estimated to be 125 hours.

Exhibit 2 shows the estimated annualized cost burden for the respondents. The total estimated cost burden for respondents is $5,475.

Exhibit 1—Estimated Annualized Burden Hours
Form name | Number of responses | Hours per response | Total burden hours
Data entry into ARRS | 500 | 15/60 | 125
Total | 500 | N/A | 125

Exhibit 2—Estimated Annualized Cost Burden
Form name | Number of responses | Total burden hours | Average hourly wage rate * | Total cost burden
Data entry into ARRS | 500 | 125 | $43.80 | $5,475
Total | 500 | 125 | N/A | $5,475
* Based upon the average wages for Healthcare Practitioner and Technical Occupations (29-0000), “National Compensation Survey: Occupational Wages in the United States, May 2021,” U.S. Department of Labor, Bureau of Labor Statistics, http://www.bls.gov/oes/current/oes_nat.htm#29-0000.

Request for Comments

In accordance with the Paperwork Reduction Act, 44 U.S.C. 3501-3520, comments on AHRQ's information collection are requested with regard to any of the following: (a) whether the proposed collection of information is necessary for the proper performance of AHRQ's health care research and health care information dissemination functions, including whether the information will have practical utility; (b) the accuracy of AHRQ's estimate of burden (including hours and costs) of the proposed collection(s) of information; (c) ways to enhance the quality, utility and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: May 26, 2023.
Marquita Cullom,
Associate Director.

[FR Doc. 2023-11723 Filed 6-1-23; 8:45 am]

BILLING CODE 4160-90-P